DEPARTMENT OF HOMELAND SECURITY

Coast Guard

33 CFR Part 165

[Docket No. USCG-2010-0062]

Safety Zone; Fleet Week Maritime Festival, 2016, Pier 66, Elliott Bay; Seattle, WA

AGENCY: Coast Guard, DHS.

ACTION: Notice of enforcement of regulation.

SUMMARY: The Fleet Week Maritime Festival's Pier 66 Safety Zone in Elliott Bay, WA will be subject to enforcement from 8 a.m. until 8 p.m. on August 2, 2016, but within this time period the zone will only be enforced 30 minutes prior to the beginning, during, and 30 minutes following the conclusion of the parade of ships. This action is necessary to promote safety on navigable waters. During the enforcement period, entry into, transit through, mooring, or anchoring within this zone is prohibited unless authorized by the Captain of the Port, Puget Sound or his designated representative.

DATES: The regulations in 33 CFR 165.1330 will be subject to enforcement from 8 a.m. until 8 p.m. on August 2, 2016.

FOR FURTHER INFORMATION CONTACT: If you have questions on this notice of enforcement, call or email LT Kate Haseley, Sector Puget Sound Waterways Management Division, Coast Guard; telephone (206) 217-6051, SectorPugetSoundWWM@uscg.mil.

SUPPLEMENTARY INFORMATION:

The safety zone for the Fleet Week Maritime Festival in 33 CFR 165.1330 will be subject to enforcement from 8 a.m. until 8 p.m. on August 2, 2016; however, it will only be enforced 30 minutes prior to the beginning, during, and 30 minutes following the conclusion of the parade of ships. The COTP may issue a general permission to enter the zone during some of this time period if he or she determines the zone need not be enforced for a certain period of time because the parade of ships starts late or ends early. If the COTP issues a general permission to enter, the public would be notified via a Broadcast Notice to Mariners.

In accordance with the general regulations in 33 CFR part 165, subpart C, no vessel operator may enter, transit, moor, or anchor within this safety zone, except for vessels authorized by the Captain of the Port, Puget Sound or his designated representative, thirty minutes prior to the beginning, during, and thirty minutes following the conclusion of the Parade of Ships. The Captain of the Port may be assisted by other federal, state, or local agencies as needed.

In order to transit through this safety zone, authorization must be granted by the Captain of the Port, Puget Sound or his designated representative. All vessel operators desiring entry into this safety zone shall gain authorization by contacting either the on-scene patrol craft on VHF Ch 13 or Ch 16, or Coast Guard Sector Puget Sound Joint Harbor Operations Center (JHOC) via telephone at (206) 217-6002. Vessel operators granted permission to enter this safety zone will be escorted by the on-scene patrol until no longer within the safety zone.

This document is issued under authority of 33 CFR 165.1330 and 5 U.S.C. 552(a). In addition to this notice of enforcement in the Federal Register, the Coast Guard will provide the maritime community with advanced notification of the safety zone via the Local Notice to Mariners and marine information broadcasts. If the Captain of the Port determines that the regulated area need not be enforced for the full duration stated in this notice of enforcement, he may use a Broadcast Notice to Mariners to grant general permission to enter the regulated area.

Dated: July 13, 2016.
M.W. Raymond,
Captain, U.S. Coast Guard, Captain of the Port, Puget Sound.

[FR Doc. 2016-16979 Filed 7-18-16; 8:45 am]

BILLING CODE 9110-04-P